COMMISSION ON CIVIL RIGHTS

Sunshine Act Notice

AGENCY: United States Commission on Civil Rights.

ACTION: Notice of meeting.

DATE AND TIME: Friday, January 28, 2011; 11:30 a.m. EST.

PLACE: Via Teleconference. Public Dial in: 1-800-597-7623. Conference ID#: 37792479.

Meeting Agenda

This meeting is open to the public.

I. Approval of Agenda.

II. Welcome New Commissioners.

III. Management and Operations:

• Review of transition, order of succession, continuity of operations.

• Review of 2011 meeting calendar.

• Staff Director's report.

IV. Program Planning: Update and discussion of projects.

• Cy Pres.

• Disparate Impact in School Discipline Policies.

• Gender and the Wage Gap.

• Title IX—Sex Discrimination in Liberal Arts College Admissions.

• Eminent Domain Project.

• NBPP.

V. State Advisory Committee Issues:

• Consideration of Vermont SAC Chair.

• Re-chartering the Alabama SAC.

VI. Approval of Dec. 3, 2010 Meeting Minutes.

VII. Announcements.

VIII. Adjourn.

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: January 18, 2011.
Christopher Byrnes,
Delegated the Authority of the Staff Director.

[FR Doc. 2011-1277 Filed 1-18-11; 4:15 pm]

BILLING CODE 6335-01-P